DEPARTMENT OF LABOR

Employment and Training Administration

[TA-W-39,255]

Potlatch Corporation, Sappi Fine Paper North America, Honeywell Corporation, Minnesota Pulp and Paper Division, Brainerd, MN; Amended Certification Regarding Eligibility To Apply for Worker Adjustment Assistance

In accordance with Section 223 of the Trade Act of 1974 (19 U.S.C. 2273) the Department of Labor issued a Certification Regarding Eligibility To Apply for Worker Adjustment Assistance on February 20, 2002, applicable to workers of Potlatch Corporation, Minnesota Pulp and Paper Division, Brainerd, Minnesota. The notice was published in the Federal Register on February 28, 2002 (67 FR 9325). The certification was amended on July 16, 2002 to include workers whose wages were reported to the Honeywell Corporation tax account. The notice was published in the Federal Register on July 24, 2002 (67 FR 48487).

At the request of the petitioners, the Department reviewed the certification for workers of the subject firm. The workers are engaged in the production of high line coated printing paper.

The company reports that Sappi Fine Paper North America purchased Potlatch Corporation, Minnesota Pulp and Paper Division on May 13, 2002. Information shows that employees separated from Potlatch after the May 13, 2002 selling date, were separated as employees of Sappi Fine Paper and, therefore, were not found eligible for trade adjustment assistance under the current certification covering Potlatch employees.

The intent of the Department's certification is to include all workers of Potlatch Corporation, Minnesota, Pulp and Paper Division, who were adversely affected by increased imports.

Accordingly, the Department is amended the certification determination to properly reflect this matter.

The amended notice applicable to TA-W-39,255 is hereby issued as follows:

All workers of Potlatch Corporation, Sappi Fine Paper North America, Honeywell Corporation, Minnesota Pulp and Paper Division, Brainerd, Minnesota who become totally or partially separated from employment on or after May 1, 2000, through February 20, 2004, are eligible to apply for adjustment assistance under Section 223 of the Trade Act of 1974.

Signed at Washington, DC, this 26th day of September, 2002.
Linda G. Poole,
Certifying Officer, Division of Trade Adjustment Assistance.

[FR Doc. 02-26751 Filed 10-21-02; 8:45 am]

BILLING CODE 4510-30-M